DEPARTMENT OF ENERGY

Federal Energy Regulatory Commission

[Docket No. RP01-183-001]

OkTex Pipeline Company; Notice of Compliance Filing

April 18, 2002.

Take notice that on April 15, 2002 OkTex Pipeline Company (OkTex), tendered for filing to become part of its FERC Gas Tariff, Original Volume No. 1, the following pro forma tariff sheets:

Substitute 2nd Revised Sheet No. 1

Substitute 2nd Revised Sheet No. 4

Second Revised Sheet No. 5A

Substitute 2nd Revised Sheet No. 15

8th Revised Sheet No. 30

Second Revised Sheet No. 30A 3rd Revised Sheet No. 34

3rd Revised Sheet No. 35

3rd Revised Sheet No. 36

Fourth Revised Sheet No. 38

Substitute Original Sheet No. 40G

Substitute Original Sheet No. 40H

Substitute Original Sheet No. 40I

Substitute Original Sheet No. 40J

Original Sheet No. 40K

Substitute 1st Revised Sheet No. 47

Substitute 1st Revised Sheet No. 54

Substitute Second Revised Sheet No. 60C

Second Revised Sheet No. 61

OkTex states that on February 27, 2002 the Commission issued its Order on Compliance with Order No. 637 regarding OkTex's December 11, 2000 filing regarding the regulation of short-term interstate natural gas transportation services in Docket Nos. RM98-10-002 and RM98-12-002 (“Order No. 637, and 637-A”). In the instant filing OkTex is filing in to implement the Commission's rulings in the Order issued in Docket No RP01-183-000.

OkTex states that copies of the filing have been mailed to all affected customers and state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-10013 Filed 4-23-02; 8:45 am]

BILLING CODE 6717-01-P